NUCLEAR REGULATORY COMMISSION

[Docket No. 030-29302; License No. 29-27857-01; EA-06-286]

In the Matter of TRC Engineers, Inc., Mount Laurel, NJ; Order Imposing Civil Monetary Penalty

I

TRC Engineers, Inc., formerly SITE-Blauvelt Engineering, Inc., formerly Site Engineers, Inc., is the holder of a byproduct materials License No. 29-27857-01 issued by the Nuclear Regulatory Commission (NRC or Commission) on July 11, 1986. The license was renewed on December 26, 2001 (Amendment 7) and expires on December 31, 2011. The license authorizes the Licensee to possess and use certain byproduct materials in accordance with the conditions specified therein.

II

An inspection of the Licensee's activities was completed on December 5, 2006 at the licensee's facility, as well as at a temporary job site in Monroe, Pennsylvania. The results of this inspection indicated that the Licensee had not conducted its activities in full compliance with NRC requirements. A written Notice of Violation and Proposed Imposition of Civil Penalty (Notice) was served upon the Licensee by letter dated January 30, 2007. The Notice states the nature of the violation, the provision of the NRC's requirements that the Licensee violated, and the amount of the civil penalty proposed for the violation. The Licensee responded to the Notice in a letter dated February 28, 2007. In its response, the Licensee disputed the violation and requested rescission of the civil penalty.

III

After consideration of the Licensee's response and the statements of fact, explanation, and argument for mitigation contained therein, the NRC staff has determined, the violation occurred as stated in the Notice and that the penalty proposed for the violation designated in the Notice should be imposed.

IV

In view of the foregoing and pursuant to Section 234 of the Atomic Energy Act of 1954, as amended (Act), 42 U.S.C. 2282, and 10 CFR 2.205, it is hereby ordered that:

The Licensee pay a civil penalty in the amount of $ 3,250 within 30 days of the date of this Order, in accordance with NUREG/BR-0254. In addition, at the time payment is made, the licensee shall submit a statement indicating when and by what method payment was made, to the Director, Office of Enforcement, U.S. Nuclear Regulatory Commission, One White Flint North, 11555 Rockville Pike, Rockville, MD 20852-2738.

V

The Licensee may request a hearing within 30 days of the date of this Order. Where good cause is shown, consideration will be given to extending the time to request a hearing. A request for extension of time must be made in writing to the Director, Office of Enforcement, U.S. Nuclear Regulatory Commission, Washington, DC 20555-0001, and include a statement of good cause for the extension. A request for a hearing should be clearly marked as a “Request for an Enforcement Hearing” and shall be submitted to the Secretary, U.S. Nuclear Regulatory Commission, ATTN: Rulemakings and Adjudications Staff, Washington, DC 20555-0001. Copies also shall be sent to the Director, Office of Enforcement, U.S. Nuclear Regulatory Commission, Washington, DC 20555-0001, to the Assistant General Counsel for Materials Litigation and Enforcement at the same address, and to the Regional Administrator, NRC Region I, 475 Allendale Rd., King of Prussia, PA 19406. If a hearing is requested, the Commission will issue an Order designating the time and place of the hearing. If the Licensee fails to request a hearing within 30 days of the date of this Order, or if written approval of an extension of time in which to request a hearing has not been granted, the provisions of this Order shall be effective without further proceedings. If payment has not been made by that time, the matter may be referred to the Attorney General, for collection.

In the event the Licensee requests a hearing as provided above, the issues to be considered at such hearing shall be:

(a) Whether the Licensee was in violation of the Commission's requirements as set forth in the Notice referenced in Section II above, and

(b) Whether, on the basis of such violation, this Order should be sustained.

For the Nuclear Regulatory Commission.
Dated this 30th day of April 2007.
Cynthia A. Carpenter,
Director, Office of Enforcement.

[FR Doc. E7-8672 Filed 5-4-07; 8:45 am]

BILLING CODE 7590-01-P